DEPARTMENT OF HEALTH AND HUMAN SERVICES

Centers for Disease Control and Prevention

Adaptation and Evaluation of a Brief, Nurse-Delivered Sexual Risk Reduction Intervention for HIV-Positive Women in the South

Announcement Type: New.

Funding Opportunity Number: PS05-083.

Catalog of Federal Domestic Assistance Number: 93.941.

Key Dates:sea

Letter of Intent Deadline: July 5, 2005.

Application Deadline: July 18, 2006.

I. Funding Opportunity Description

Authority: The program is authorized under sections 317(k)(2) and 318b of the Public Health Service Act [42 U.S.C. Sections 247b(k)(2) and 247c], as amended.

Purpose: The purpose of the project is to adapt and evaluate a prevention intervention for the growing population of HIV-positive women in the Southern United States (U.S.), and to study factors associated with risk among women. The primary outcome will be the evaluation of a brief, nurse-delivered prevention intervention adapted for use with HIV-positive women in the Southern U.S. using behavioral risk measures. The project will also conduct a small number of in-depth qualitative interviews of young, recently infected women to assess social and environmental factors contributing to behavioral risk for HIV infection, as well as potential for future interventions that go beyond the individual level. This program addresses the “Healthy People 2010” focus areas of HIV.

Measurable outcomes of the program will align with one or more of the following performance goals for the National Center for HIV, STD, and TB Prevention (NCHSTP):

• Decrease the number of persons at high risk for acquiring or transmitting HIV infection.

• Strengthen the capacity nationwide to monitor the epidemic, develop and implement effective HIV prevention interventions, including those based on the “ABC” approach (Abstinence, Be Faithful, and, as appropriate, Correct and Consistent Condom Use), and evaluate prevention programs.

Research Objectives: The objectives of this study include:

• Using and adopting Demonstration Adaptation of Prevention Techniques (ADAPT) guidelines to adapt and tailor “Sister to Sister: the Black Woman's Health Project,” (a brief nurse-delivered prevention intervention) to HIV-positive women in the Southern U.S.

• Training nurses to deliver the single-session HIV prevention intervention to HIV-positive women in order to reduce HIV transmission risk behavior in this population.

• Monitoring the delivery of the intervention for quality assurance.

• Evaluating the intervention by implementing a randomized comparison study, including pre-intervention and six-month post-intervention behavioral risk assessments.

• Conducting qualitative interviews with a subgroup of recently diagnosed participants to assess factors contributing to risk, and exploring innovative ways to prevent HIV transmission among at-risk women in the South.

Activities: The program will support health departments in one or two states in the Southern U.S. Health departments will be expected to work collaboratively with federal investigators and another awardee (if applicable) in conducting an intervention study to reduce sexual transmission risk among HIV-positive women in both rural and urban settings in the Southern U.S. It is expected that grantees will enroll a total of 330 women (one site or two sites combined), a proportion of whom will be living in rural areas. This proportion will be determined between CDC and grantee after the award.

The intervention to be evaluated will be an adaptation of “Sister to Sister: The Black Woman's Health Project,” a rigorously evaluated, 20-minute nurse-delivered intervention that was effective in reducing sexually-transmitted infection (STI) incidence at a 12-month follow-up with HIV-negative urban African American women. The intervention will be adapted utilizing the ADAPT guidance (available through the Extramural Program Official listed in Section VII of this announcement) for adapting and tailoring prevention interventions. The intervention would be evaluated with behavior change in a randomized wait list comparison design with a six-month follow-up period. That is, six months after having delivered the intervention to the first group of women, women in the comparison condition would also receive the intervention.

Semi-structured, focused, qualitative interviews will be conducted with a subgroup of young, recently-diagnosed participants following their participation in the intervention study. During the qualitative interviews, women will discuss the behavioral, social, and contextual conditions that may have contributed to their risk for HIV infection, and ideas about possible ways to address the STI and HIV epidemics in this region, i.e., how to prevent other women from becoming infected. Ultimately, the qualitative data will be used to inform future social, structural, policy, or other interventions. Thus, the proposed project will evaluate an individually based approach and gather information for approaches with the potential to have greater impact on this epidemic than might be anticipated with individual-level interventions alone.

Awardee activities for this program are as follows:

• Establish a community advisory board comprised of representative members of the community to consult on all aspects of the study.

• Develop recruitment strategies that will identify a minimum of 165 to 330 (depending on the number of awards) HIV-seropositive women within the applicant state(s), in rural and urban areas, and retain 85 percent of participants through their risk behavior assessment at six months following the delivery of the intervention.

• In collaboration with ODC investigators, adapt the existing intervention to the target population.

• In collaboration with CDC and other funded investigators (if applicable), develop a plan for a randomized behavioral intervention trial with research and intervention protocols and assessment instruments.

• In collaboration with CDC and other funded investigators (if applicable), develop a semi-structured qualitative individual interview protocol focusing on women's perceptions of factors involved in their infection, including social and structural parameters of risk. The protocol would specify criteria for purposefully selecting a subgroup of 25-30 study participants for the qualitative interviews.

• Identify five to ten nurses who will be trained to deliver the intervention and arrange for their participation in the proposed project.

• Conduct the research study in accordance with the study protocol and CDC mutually-established timeline.

• Collaborate with CDC and other funded investigators (if applicable) to develop and use common data collection instruments and data management and reporting procedures. Recipients will be required to pool data for analysis and publication as agreed to by the collaborators.

• Attend meetings at CDC and elsewhere to develop a collaborative research protocol and monitor progress.

• Participate in regular conference calls with all collaborators.

• Develop the research study protocols and standardized data collection forms access sites, including standardized measures of HIV-related risk behavior.

• Establish procedures to maintain the rights and confidentially of all study participants.

• Prepare an Institutional Review Board (IRB) protocol for approval at the local and CDC levels.

• Identify, recruit, enroll, and obtain informed consent from an adequate number of study participants, as determined by the study protocols and the program requirements.

• Follow study participants as determined by the study protocols.

• Collaborate and share data (when appropriate) with other collaborators to answer specific research questions.

• Participate in the presentation and publishing of research findings.

• Collaborate with other awardees (if applicable) on all aspects of the study.

In a cooperative agreement, CDC staff is substantially involved in the program activities, above and beyond routine grant monitoring.CDC activities for this program are as follows:

• Providing technical assistance, as needed, in intervention adaptation and in the design and conduct of research.

• Providing training on the adapted intervention to nurses who will deliver the intervention.

• Providing training on HIV-related nursing care, if requested by applicant.

• Training project staff to conduct behavioral risk assessment interviews and qualitative interviews.

• Assisting in the development of a research protocol for IRB review by all cooperating institutions participating in the research project. CDC's IRB will review and approve the protocol initially and on at least an annual basis until the research project is completed.

• Assisting in designing an integrated data management system, including coordinating data submission to CDC via the Secure Data Network (SDN) and developing cleaned, combined data sets.

• Working collaboratively with investigators to help facilitate research activities across sites involved in the same research project.

• Analyzing data and presenting findings at meetings and in publications.

II. Award Information

Type of Award: Cooperative Agreement. CDC involvement in this program is listed in the Activities Section above.

Mechanism of Support: U01.

Fiscal Year Funds: 2005.

Approximate Total funding: $200,000. (This amount is an estimate, and is subject to availability of funds.)

Approximate Number of Awards: One to Two.

Approximate Average Award: $100,000 to $200,000. (This amount includes both indirect and direct costs for the first 12-month budget period, and would increase in subsequent years depending on availability of funds.)

Floor of Award Range: None.

Ceiling of Award Range: $200,000. (This ceiling is for the first 12-month budget period.)

Anticipated Award Date: August 31, 2005.

Budget Period Length: 12 months.

Project Period Length: Four years. Throughout the project period, CDC's commitment to the continuation of awards will be conditioned on the availability of funds, evidence of satisfactory progress by the recipient (as documented in required reports), and the determination that continued funding is in the best interest of the Federal Government.

It is anticipated that in subsequent years of the project, the average award will increase in order to support project activities, including the staff and materials necessary to conduct recruitment, retention, intervention, and evaluation activities.

III. Eligibility Information

III.1. Eligible Applicants

Applications may be submitted by:

• State health departments in the following states: North Carolina, South Carolina, Georgia, Texas, Delaware, Maryland, Alabama, Mississippi, Florida, Louisiana, Tennessee or their Bona Fide Agents.

A Bona Fide Agent is an agency/organization identified by the state as eligible to submit an application under the state eligibility in lieu of a state application. If you are applying as a bona fide agent of a state government, you must provide a letter from the state as documentation of your status. Place this documentation behind the first page of your application form.

Eligibility is limited to these state health departments due to dramatic increases in HIV, AIDS and STI rates among women, particularly among women of color in these states. Over the past 15 years, the HIV infection rate among women in the Southern U.S. has steadily increased. Seven of the ten states with the highest case rates among women are in the South, and the South hs led the way in total number of reported AIDS cases among female adults and adolescents, compared to all other regions of the country. As is the case nationally, in Southern U.S., black women make up the vast majority of newly reported HIV infections.

Given that women in the Southern U.S. are disproportionately affected by HIV, this competition is limited to health departments in the Southern U.S. with demonstrated ability to reach HIV positive women at risk for further transmission, in adequate numbers to generate the required sample size for this project, and with demonstrated research capability.

III.2. Cost Sharing or Matching

Matching funds are not required for this program.

III.3. Other

If you are requesting a funding amount greater than the ceiling of the award range, your application will be considered non-responsive, and will not be entered into the review process. You will be notified that your application did not meet the submission requirements.

Special Requirements: If your application is incomplete or not responsive to the requirements listed in this section, it will not be entered into the review process. You will be notified that your application did not meet submission requirements.

• Late applications will be considered nonresponsive. See section “IV.3. Submission Dates and Times” for more information on deadlines.

• Note: Title 2 of the United States Code Section 1611 states that an organization described in Section 501(c)(4) of the Internal Revenue Code that engages in lobbying activities is not eligible to receive federal funds constituting an award, grant, or loan.

Individuals Eligible to Become Principal Investigators: Any individual with the skills, knowledge, and resources necessary to carry out the proposed research is invited to work with their state health department to develop an application for support. Individuals from underrepresented racial and ethnic groups, as well as individuals with disabilities, are always encouraged to apply for CDC programs.

Additional Principal Investigator qualifications are as follows:

• Experience adapting, delivering, and evaluating HIV prevention interventions, including those based on the “ABC” approach (Abstinence, Be Faithful, and, as appropriate, Correct and Consistent Condom Use).

• Knowledge and training in theories of behavioral change.

• A track record of participation in conducting and publishing research.

IV. Application and Submission Information

IV.1. Address To Request Application Package

To apply for this funding opportunity, use application form PHS 398 (OMB number 0925-0001 rev. 9/2004). Forms and instructions are available in an interactive format at http://www.cdc.gov/od/pgo/forminfo.htm.

Forms and instructions are also available in an interactive format at http://grants.nih.gov/grants/funding/phs398/phs398.html.

If you do not have access to the Internet, or if you have difficulty accessing the forms online, you may contact the CDC Procurement and Grants Office Technical Information Management Section (PGO-TIM) staff at: 770-488-2700. Application forms can be mailed to you.

IV.2. Content and Form of Application Submission

Letter of Intent (LOI): Your LOI must be written in the following format:

• Maximum number of pages: Two.

• Font size: 12-point unreduced.

• Line spacing: Single.

• Paper size: 8.5 by 11 inches.

• Page margin size: One inch.

• Printed only on one side of page.

• Written in plain language, avoid jargon.

Your LOI must contain the following information:

• Descriptive title of the proposed research.

• Name, address, e-mail address, telephone number, and FAX number of the Principal Investigator.

• Names of other key personnel.

• Participating institutions.

• Number and title of this announcement.

Application: Follow the PHS 398 application instructions for content and formatting of your application. If the instructions in this announcement differ in any way from the PHS 398 instructions, follow the instructions in this announcement. For further assistance with the PHS 398 application form, contact the PGO-TIM staff at 770-488-2700, or contact GrantsInfo by phone at (301) 435-0714 or by e-mail at GrantsInfo@nih.gov.

Your research plan should address activities to be conducted over the entire project period.

You are required to have a Dun and Bradstreet Data Universal Numbering System (DUNS) number to apply for a grant or cooperative agreement from the Federal Government. Your DUNS number must be entered on line 11 of the face page of the PHS 398 application form. The DUNS number is a nine-digit identification number, which uniquely identifies business entities.

Obtaining a DUNS number is easy, and there is no charge. To obtain a DUNS number, go to http://www.dunandbradstreet.com or call 1-866-705-5711. For more information, go to the CDC Web site at: http://www.cdc.gov/od/pgo/funding/pubcommt1.htm.

This announcement uses the modular budgeting as well as non-modular budgeting formats. See: http://grants.nih.gov/grants/funding/modular/modular.htm for additional guidance on modular budgets. Specifically, if you are submitting an application with direct costs in each year of $250,000 or less, use the modular budget format. Otherwise, follow the instructions for non-modular budget research grant applications.

Additional requirements to submit more documentation with your application are listed below in Section “VI.2. Administrative and National Policy Requirements.”

IV.3. Submission Dates and Times

LOI Deadline Date: July 5, 2005.

CDC requests that you send a LOI if you intend to apply for this program. Although the LOI is not required, not binding, and does not enter into the review of your subsequent application, the LOI will be used to gauge the level of interest in this program, and to allow CDC to plan the application review.

Application Deadline Date: July 18, 2005.

Explanation of Deadlines: LOIs must be received in the Office of Public Health Research (OPHR) and applications must be received in the CDC Procurement and Grants Office by 4 p.m. eastern time on the deadline date. If you submit your application by the United States Postal Service or a commercial delivery service, you must ensure that the carrier will be able to guarantee delivery by the closing date and time. If CDC receives your submission after closing due to: (1) Carrier error, when the carrier accepted the package with a guarantee for delivery by the closing date and time; or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your application does not meet the deadline above, it will not be eligible for review, and will be discarded. You will be notified that you did not meet the submission requirements.

CDC will not notify you upon receipt of your submission. If you have a question about the receipt of your application, first contact your courier. If you still have a question, call the PGO-TIM staff at 770-488-2700. Before calling, please wait two to three days after the submission deadline. This will allow time for submissions to be processed and logged.

IV.4. Intergovernmental Review of Applications

Your application is subject to Intergovernmental Review of Federal Programs, as governed by Executive Order (EO) 12372. This order sets up a system for State and local governmental review of proposed federal assistance applications. You should contact your state single point of contact (SPOC) as early as possible to alert the SPOC to prospective applications, and to receive instructions on your state's process. To get the current SPOC list, go to http://www.whitehouse.gov/omb/grants/spoc.html.

IV.5. Funding Restrictions

Restrictions, which must be taken into account while writing your budget, are as follows:

• Funds relating to the conduct of research will not be released until the appropriate assurances and Institutional Review Board approvals are in place.

• Reimbursement of pre-award costs is not allowed.

If you are requesting indirect costs in your budget, you must include a copy of your indirect cost rate agreement. If your indirect cost rate is provisional, the agreement should have been made within the past 12 months.

IV.6. Other Submission Requirements

LOI Submission Address: Submit your LOI by express mail or delivery service to: Mary Lerchen, DrPH, Scientific Review Administrator, Centers for Disease Control and Prevention, One West Court Square, Suite 7000, MS D-72, Decatur, GA 30030, Telephone: 404-371-5277, Fax: 404-371-5277, Fax: 404-371-5215, E-mail: Mlerchen@cdc.gov.

LOIs may not be submitted electronically at this time.

Application Submission Address: Submit the original and one hard copy of your application by express mail or delivery service to: Technical Information Management—PS05-083, CDC Procurement and Grants Office, 2920 Brandywine Road, Atlanta, GA 30341.

At the time of submission, four additional copies of the application and all appendices must be sent to: Mary Lerchen, DrPH, Scientific Review Administrator, Centers for Disease Control and Prevention, One West Court Square, Suite 7000, MS D-72, Decatur, GA 30030, Telephone: 404-371-5277, Fax: 404-371-5215, E-mail: Mlerchen@cdc.gov.

Applications may not be submitted electronically at this time.

V. Application Review Information

V.1. Criteria

Applicants are required to provide measures of effectiveness that will demonstrate the accomplishment of the objectives of the cooperative agreement. Measures of effectiveness must relate to the performance goals stated in the Purpose section of this announcement. Measures must be objective and quantitative, and must measure the intended outcomes. These measures of effectiveness must be submitted with the application and will be an element of evaluation.

The goals of CDC-supported research are to advance the understanding of biological systems, improve the control and prevention of disease and injury, and enhance health. In the written comments, reviewers will be asked to evaluate the application in order to judge the likelihood that the proposed research will have a substantial impact on the pursuit of the goals appropriate to this announcement.

The scientific review group will address and consider each of the following criteria in assigning the application's overall score, weighting them as appropriate for each application. The application does not need to be strong in all categories to be judged likely to have major scientific impact and thus deserve a high priority score. For example, an investigator may propose to carry out important work that by its nature is not innovative, but is essential to move a field forward.

The review criteria are as follows:

Significance: Does this study address an important problem? If the aims of the application are achieved, how will scientific knowledge be advanced? What will be the effect of these studies on the concepts or methods that drive this field? Does the applicant demonstrate an understanding of the need for and intent of the research? Does the applicant provide a description of study activities that are likely to lead to meeting the objectives of this project? Are the proposed study activities likely to have a positive impact on the field of HIV prevention for HIV positive women in the southern U.S.?

Approach: Are the conceptual framework, design, methods, and analyses adequately developed, well-integrated, and appropriate to the aims of the project? Does the applicant acknowledge potential problem areas and consider alternative tactics? Does the applicant address all of the activities listed on pages four through eight of this announcement? Will the applicant establish a community advisory board to assist on all aspects of conducting the study? Does the applicant agency demonstrate adequate knowledge of the epidemic in its geographic area and the target population? Does the applicant provide a timeframe for the proposed project? Does the applicant propose an adequate plan to recruit the required minimum number of eligible participants? Does the applicant propose an adequate plan to retain at least 85 percent of the study sample across the follow-up period? Does the applicant present an adequate plan for recruitment and organizational support of nurses to deliver the intervention? Does the applicant present an adequate plan for quality assurance of the delivery of the intervention? Does the applicant present an adequate plan for assuring client and data confidentiality?

Innovation: Does the project employ novel concepts, approaches or methods? Are the aims original and innovative? Does the project challenge existing paradigms or develop new methodologies or technologies?

Investigator: Is the investigator appropriately trained and well suited to carry out this work? Is the work proposed appropriate to the experience level of the principal investigator and other researchers (if any)? Does the investigator have and demonstrate an understanding of the issues relating to the proposed target population and experience working with this population? Does the investigator have experience recruiting the targeted study population and retaining this group in a study? Does the investigator have experience with delivery and evaluation of behavioral interventions? Does the investigator have previous experience conducting a randomized controlled trial? Does the key staff have sufficient time devoted to this project to ensure success? Does the investigator have experience collaborating with community advisory boards? Does the investigator demonstrate a willingness to collaborate with CDC and, if applicable, other health department, to adapt the intervention and design the intervention evaluation and qualitative interviews?

Environment: Does the scientific environment in which the work will be done contribute to the probability of success? Do the proposed experiments take advantage of unique features of the scientific environment or employ useful collaborative arrangements? Is there evidence of institutional support? Is the planned location for the study in an area with access to adequate numbers of the target population? Does the applicant include letters of support demonstrating a strong partnership with health care facilities and/or the agencies with which it proposes collaboration, including proposed location of intervention delivery? Does the applicant demonstrate how levels of administrative support, community involvement, facilities, and other resources at the research site(s) will contribute to the probability of success of the project?

Additional Review Criteria: In addition to the above criteria, the following items will be considered in the determination of scientific merit and priority score:

Protection of Human Subjects From Research Risks: Does the application adequately address the requirements of Title 45 CFR Part 46 for the protection of human subjects? The involvement of human subjects and protection from research risks relating to their participation in the proposed research will be assessed.

Inclusion of Women and Minorities in Research: Does the application adequately address the CDC Policy requirements regarding the inclusion of women and ethnic and racial groups in the proposed research? This includes: (1) The proposed plan for the inclusion of women and racial and ethnic minority populations for appropriate representation; (2) The proposed justification when representation is limited or absent; (3) A statement as to whether the design of the study is adequate to measure differences when warranted; and (4) A statement as to whether the plans for recruitment and outreach for study participants include the process of establishing partnerships with communities and recognition of mutual benefits.

Budget: Is the proposed budget and the requested period of support reasonable in relation to the proposed research?

V.2. Review and Selection Process

Applications will be reviewed for completeness by the Procurement and Grants Office (PGO) and for responsiveness by OPHR. Incomplete applications and applications that are non-responsive to the eligibility criteria will not advance through the review process. Applicants will be notified that their application did not meet submission requirements.

Applications that are complete and responsive to the announcement will be evaluated for scientific and technical merit by an appropriate peer review group or charter study section convened by OPHR in accordance with the review criteria listed above. As part of the initial merit review, all applications may:

• Undergo a process in which only those applications deemed to have the highest scientific merit by the review group, generally the top half of the applications under review, will be discussed and assigned a priority score.

• Receive a written critique.

• Receive a second programmatic level review by the NCHSTP.

Award Criteria: Criteria that will be used to make award decisions during the programmatic review include:

• Scientific merit (as determined by peer review)

• Availability of funds

• Programmatic priorities

V.3. Anticipated Announcement and Award Dates

It is anticipated that awards will be made on or before August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR Part 74 and Part 92

For more information on the Code of Federal Regulations, go to the National Archives and Records Administration Internet address at http://www.access.gpo.gov/nara/cfr/cfr-table-search.html.

The following additional requirements apply to this project:

• AR-1 Human Subjects Requirements.

• AR-2 Requirements for Inclusion of Women and Racial and Ethnic Minorities in Research.

• AR-4 HIV/AIDS Confidentiality Provisions.

• AR-5 HIV Program Review Panel Requirements.

• AR-6 Patient Care.

• AR-7 Executive Order 12372.

• AR-9 Paperwork Reduction Act Requirements.

• AR-10 Smoke-Free Workplace Requirements.

• AR-11 Healthy People 2010.

• AR-12 Lobbying Restrictions.

• AR-22 Research Integrity.

• AR-24 Health Insurance Portability and Accountability Act Requirements.

• AR-25 Release and Sharing of Data.

Additional information on these requirements can be found on the CDC Web site at: http://www.cdc.gov/od/pgo/funding/ars.htm.

VI.3. Reporting

You must provide CDC with an original, plus two hard copies of the following reports:

1. Interim progress report. Use form PHS 2590, OMB Number 0925-0001, rev. 9/2004 as posted on the CDC Web site at: http://www.nih.gov/grants/funding/2590/2590.htm. Submit report no less than 90 days before the end of the budget period. The progress report will serve as your non-competing continuation application, and must contain the following elements:

a. Current Budget Period Objectives and Activities.

b. Current Budget Period Financial Progress.

c. New Budget Period Program Proposed Objectives and Activity.

d. Budget.

e. Measures of Effectiveness.

f. Additional Requested Information.

2. Financial status report, no more than 90 days after the end of the budget period.

3. Final financial and performance reports, no more than 90 days after the end of the project period.

These reports must be mailed to the grants management specialist listed in the Agency Contacts section of this announcement.

VII. Agency Contacts

Inquiries concerning this announcement are encouraged.

For general questions, contact: Technical Information Management Section, CDC Procurement and Grants Office, 2920 Brandywine Road, Atlanta, GA 30341, Telephone: 770-488-2700.

For scientific/research issues, contact: Amy L. Sandul, Extramural Program Official, Office of the Associate Director for Science, National Center for HIV, STD, and TB Prevention, Centers for Disease Control and Prevention, 1600 Clifton Road, NE., MS E07, Atlanta, Georgia 30030, Telephone: 404-639-6485, Fax: 404-639-8600, E-mail: ASandul@cdc.gov.

For questions about peer review, contact: Mary Lerchen, DrPH, Scientific Review Administrator, Office of Public Health Research, Centers for Disease Control and Prevention, 1600 Clifton Road, Mailstop D72, Atlanta, GA 30030, Telephone: 404-371-5277, Fax: 404-371-5215, E-mail: mlerchen@cdc.gov.

For financial, grants management, or budget assistance, contact: Merlin Williams, Grants Management Officer, CDC Procurement and Grants Office, 2920 Brandywine Road, Atlanta, GA 30341, Telephone: 404-498-1918, E-mail: mqw6@cdc.gov.

VIII. Other Information

This and other CDC funding opportunity announcements can be found on the CDC Web site, at Internet address: http://www.cdc.gov. Click on “Funding” then “Grants and Cooperative Agreements.”

Dated: May 24, 2005.
Alan A. Kotch,
Acting Deputy Director, Procurement and Grants Office, Centers for Disease Control and Prevention.

[FR Doc. 05-10867 Filed 5-31-05; 8:45 am]

BILLING CODE 4163-18-M